FEDERAL COMMUNICATIONS COMMISSION

47 CFR Part 73

[MB Docket No. 24-112; RM-11981; DA 24-720; FR ID 235234]

Television Broadcasting Services Jacksonville, Florida

AGENCY: Federal Communications Commission.

ACTION: Final rule.

SUMMARY: The Video Division, Media Bureau (Bureau), has before it a Notice of Proposed Rulemaking issued in response to a Petition for Rulemaking filed by Multimedia Holdings Corporation (Petitioner or Multimedia), the licensee of WTLV (Station or WTLV), channel 13, Jacksonville, Florida (Jacksonville). The Petitioner has requested the substitution of UHF channel 33 for VHF channel 13 in the Table of TV Allotments. TEGNA Inc., on behalf of its wholly owned subsidiary, Multimedia, filed comments in support of the Petition, as required by the Commission's rules (rules), reaffirming Multimedia's commitment to apply for channel 33 and, if authorized, to promptly implement the facilities modifications necessary for the Station to operate on channel 33.

DATES: Effective July 31, 2024.

FOR FURTHER INFORMATION CONTACT: Joyce Bernstein, Media Bureau, at (202) 418-1647 or Joyce.Bernstein@fcc.gov, or Mark Colombo, Media Bureau, at (202) 418-7611 or Mark.Colombo@fcc.gov.

SUPPLEMENTARY INFORMATION: The proposed rule was published at 89 FR 31125 on April 24, 2024. The Petitioner filed comments in support of the petition reaffirming its commitment to apply for channel 33. No other comments were filed.

The Bureau believes the public interest would be served by substituting channel 33 for channel 13 at Jacksonville. According to the Petitioner, the Station has received persistent reception complaints from viewers, many of whom state that they can receive signals from other local stations on UHF channels, but not WTLV on VHF channel 13. The Petitioner states that the Commission has recognized that VHF channels have certain characteristics that pose challenges for their use in providing digital television service, including propagation characteristics that allow undesired signals and noise to be receivable at relatively far distances, and that although VHF reception issues are not universal, “environmental noise blockages affecting [VHF] signal strength and reception exist” and “[vary] widely from service area to service area. Additionally, the Petitioner notes that the Commission has observed the large variability in the performance of indoor antennas available to consumers, with most antennas receiving “fairly well at UHF and . . . not so well to very poor at high-VHF.” WTLV is an NBC network affiliate and while an analysis provided by the Petitioner indicates that the Station's move to channel 33 will result in 274,303 persons no longer being located within the Station's noise limited service contour (NLSC), all but 16,737 persons in the predicted loss area are within the NLSC of three other NBC affiliated TV stations. Further, when the Commission's TVStudy software is run for the Station's licensed and proposed facility with the “Study Area Mode” set to “unrestricted” to predict coverage outside the proposed channel 33 NLSC, all viewers in the remaining predicted loss area would continue to receive over-the-air NBC network programming from WTLV on channel 33. Thus, once service provided by other NBC stations and the terrain-limited coverage predictions are taken into account, we find that the proposed channel 33 facility will result in no loss of NBC service to existing viewers within the Station's current NLSC.

We also find that the proposal complies with all relevant technical requirements for amendment of the Table of TV Allotments, including the interference protection requirements of § 73.622(a) of the rules, and further demonstrates that the proposed channel 33 facility will provide full principal community coverage to Jacksonville as required by § 73.618 of the rules. In fact, this channel substitution from VHF to UHF will help improve service to existing viewers, including those in the Station's principal community of license, by eliminating reception issues related to the Station's current operation on a high-VHF channel. As proposed, channel 33 can be substituted for channel 13 at Jacksonville in compliance with the principal community coverage requirements of § 73.618(a) of the rules, at coordinates 30-16′-25″ N. and 81-33′-12″ W. In addition, we find that this channel change meets the technical requirements set forth in § 73.622(a) of the rules.

This is a synopsis of the Commission's Report and Order, MB Docket No. 24-112; RM-11981; DA 24-720, adopted July 24, 2024, and released July 24, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of the Report and Order in a report to be sent to Congress and the Government Accountability Office pursuant to the Congressional Review Act, see 5 U.S.C. 801(a)(1)(A).

List of Subjects in 47 CFR Part 73 Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(j), amend the Table of TV Allotments, under Florida, by revising the entry for “Jacksonville” to read as follows:

§ 73.622 Digital television table of allotments.

* * * * *

(j) * * *

Community | Channel No.
* * * * *
Florida
* * * * *
Jacksonville | * 9, 14, 18, 19, 20, * 21, 33.
* * * * *

* * * * *

[FR Doc. 2024-16870 Filed 7-30-24; 8:45 am]

BILLING CODE 6712-01-P